DEPARTMENT OF HEALTH AND HUMAN SERVICES

Opportunity to Co-sponsor an Office on Women's Health Awards Ceremony and Event for its 25th Anniversary

AGENCY: Department of Health and Human Services, Office of the Secretary, Office of the Assistant Secretary for Health, Office on Women's Health.

ACTION: Notice.

SUMMARY: Pursuant to 42 U.S.C. 300u, 42 U.S.C. 300u-2, and 42 U.S.C. 237a (3509 of the Patient Protection and Affordable Care Act), notice is given that the Office on Women's Health (OWH) is soliciting proposals from non-federal public and private sector entities to co-sponsor the OWH Anniversary Celebration event in the Washington, DC area in late September, 2016.

DATES: Representatives of eligible organizations should submit expressions of interest no later than 6:00 p.m. EST on August 16, 2016.

ADDRESSES: Expressions of interest should be directed electronically to Valerie.Borden@hhs.gov or mailed to the Office on Women's Health, Office of the Assistant Secretary for Health, Department of Health and Human Services, 200 Independence Avenue SW., Room 730F.3, Washington, DC 20201. Attention: Valerie Borden.

FOR FURTHER INFORMATION CONTACT: Questions may be directed to Valerie Borden, Office on Women's Health, 200 Independence Avenue SW, Room 730F.3, Washington, DC 20201. Email: Valerie.Borden@hhs.gov.

SUPPLEMENTARY INFORMATION: The OWH was established in 1991 to improve the health of American women by advancing and coordinating a comprehensive women's health agenda throughout the Department of Health and Human Service (HHS). The OWH provides national leadership and coordination to improve the health of women and girls through policy, education, and model programs. The office fulfills its mission by advancing policy and issuing competitive contracts and grants to an array of community, academic, and other organizations at the national and community levels. This year marks the office's 25th anniversary.

The event will feature a panel discussion focusing on the future of women's health. It will also feature an award ceremony for organizations and partners who helped improve the health and well-being of women and girls in the U.S. over the past 25 years.

The co-sponsor will assist with the development of the substantive content of the event and other event planning, coordination, and logistics in partnership with the OWH staff. In addition the co-sponsor will be responsible for the event venue and any food and beverages.

Eligibility for Co-Sponsorship

To be eligible, a potential co-sponsor shall:

1. Have a demonstrated understanding, commitment, and experience in improving the health of women and girls;

2. Participate substantively in the co-sponsored activity, not just provide funding or logistical support; and

3. Have an organizational or corporate mission that is consistent with OWH and HHS.

Each co-sponsorship proposal shall contain a description of: (1) The entity or organization's background and history, (2) its ability to satisfy the co-sponsorship criteria detailed above, and (3) its proposed involvement in the co-sponsored activity. The selected co-sponsoring organization(s) shall furnish the necessary personnel, materials, services, and facilities to administer its responsibility for the event. These duties will be outlined in a co-sponsorship agreement with OWH that will set forth the details of the co-sponsored activity, including the requirements that any fees collected by the co-sponsor shall be limited to the amount necessary to cover the co-sponsor's related meeting expenses.

Evaluation Criteria: After engaging in exploratory discussions with potential co-sponsors that respond to this notice, the OWH will select the co-sponsor or co-sponsors using the following evaluation criteria:

(1) Qualifications and capability to fulfill co-sponsorship responsibilities;

(2) Creativity related to enhancing the event;

(3) Potential for reaching and generating attendees from among key stakeholders, including federal, state and local policymakers, other health officials, non-profits interested in women's health, and underserved/special populations;

(4) Experience with events;

(5) Past or current work specific to women's health;

(6) Personnel names, professional qualifications, and specific expertise with event planning;

(7) Availability and description of facilities to support the event, including office space, information technology, and telecommunication resources; and,

(9) Proposed plan for managing an event with the OWH.

Expressions of interest should outline eligibility in response to the qualifications bulleted above and be no more than two pages in length, single-spaced and 11 point font.

Dated: July 19, 2016.
Nancy C. Lee,
Deputy Assistant Secretary for Health—Women's Health Director, Office on Women's Health.

[FR Doc. 2016-18178 Filed 7-29-16; 8:45 am]

BILLING CODE 4150-42-P